DEPARTMENT OF HEALTH AND HUMAN SERVICES

[Document Identifier: OS-0990-New]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before May 23, 2022.

ADDRESSES: Submit your comments to Sherrette.Funn@hhs.gov or by calling (202) 795-7714.

FOR FURTHER INFORMATION CONTACT: When submitting comments or requesting information, please include the document identifier 0990-New-60D and project title for reference, to Sherrette A. Funn, email: Sherrette.Funn@hhs.gov, or call (202) 795-7714 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Health Care Readiness Collections.

Type of Collection: Revision.

OMB No.: 0990-0391.

Abstract: The Office of the Assistant Secretary for Preparedness and Response (ASPR) in the Department of Health and Human Services (HHS) administers a portfolio of health care readiness programs and activities, including the Hospital Preparedness Program (HPP) authorized under Section 319C-2 of the Public Health Service (PHS) Act. HPP is a cooperative agreement program that strengthens national health care readiness, supports health care resilience, and enables rapid recovery.

Through the Health Care Readiness Portfolio, ASPR provides awards to 62 health departments in all 50 states, territories, freely associated states, and four metropolitan areas to support the health care delivery system through over 320 health care coalitions (HCCs) with nearly 45,000 members. An HCC is a network of public and private organizations that partner to conduct planning, training, and preparedness activities within a state or locality, building that area's overall readiness.

ASPR's Health Care Readiness Portfolio aligns preparedness activities across health care and also includes the Regional Disaster Health Response System (RDHRS) demonstration sites that establish regional partnerships to develop promising practices in coordinating disaster readiness and regional medical response; the National Special Pathogen System, a nationwide systems-based network approach for special pathogen care; workforce capacity activities; and other initiatives.

ASPR collects data annually to understand how federal funding has been spent, measure performance, and monitor adherence with program requirements. These data additionally support ASPR to develop funding opportunities, improve programmatic operations, and inform decision-making. ASPR is also responsible for allocating and monitoring emergency and supplemental funding, understanding recipient and sub-recipient real-time needs, and maintaining situational awareness of the current state of preparedness, response, and recovery activities. When circumstances require rapid information gathering, it is necessary for ASPR to also collect data on an ad hoc basis to advance these goals. ASPR is changing the title of this collection from “Hospital Preparedness Program Data Collection” to “Health Care Readiness Collections” to better reflect the scope of data collected under this approval.

Annualized Burden Hour Table
Forms (If necessary) | Respondents (If necessary) | Number of respondents | Number of responses per respondents | Average burden per response | Total burden hours
HPP Recipient End-of-Year Performance Report Collection | HPP Recipients | 62 | 1 | 21 | 1,302
HPP Sub-Recipient End-of-Year Performance Report Collection | HPP Sub-Recipients | 321 | 1 | 4 | 1,284
Ad hoc Information Collections | ASPR Health Care Readiness Portfolio Stakeholders | 5,296 | 1 | 1 | 5,296
Total |  |  | 3 |  | 7,882

Sherrette A. Funn,
Paperwork Reduction Act Reports Clearance Officer, Office of the Secretary.

[FR Doc. 2022-06255 Filed 3-23-22; 8:45 am]

BILLING CODE 4150-28-P